DEPARTMENT OF TRANSPORTATION

Federal Aviation Administration

Aviation Rulemaking Advisory Committee—New Task

AGENCY: Federal Aviation Administration (FAA), DOT.

ACTION: Notice of new task assignment for the Aviation Rulemaking Advisory Committee (ARAC)—Aviation Rulemaking Advisory Committee Process Improvement.

SUMMARY: The FAA assigned the Aviation Rulemaking Advisory Committee (ARAC) a new task to provide advice and recommendations to the FAA about the current ARAC process. This notice informs the public of the new ARAC activity.

FOR FURTHER INFORMATION CONTACT: Pamela Hamilton, Office of Rulemaking, Federal Aviation Administration, 800 Independence Avenue, SW., Washington, DC 20591; telephone: 202-267-8742, facsimile: 202-267-5075; e-mail pam.hamilton@faa.gov.

SUPPLEMENTARY INFORMATION:

Background

The Secretary of Transportation determined the formation and use of an advisory committee to serve as a forum for the FAA to get input from outside the Federal Government on major regulatory issues facing the agency. As a result, the FAA established ARAC.

ARAC is a formal standing advisory committee made up of representatives from aviation associations, aviation industry, public interest groups, advocacy groups, and interested members of the public. It is composed of a full committee, Executive Committee, issue areas, and working groups (which also include task groups). ARAC's objectives are to improve development of the FAA's regulations by providing information, advice, and recommendations related to aviation issues. The objective includes FAA working with industry and the public to obtain advice and recommendations on the Committee process.

Members of the Executive Committee have suggested there may be more effective means of achieving ARAC's objectives and requested a working group be established to develop possible process improvements. In December 2008, the FAA invited the Executive Committee (EXCOM) to provide input and ideas as part of its effort to re-invigorate the ARAC process.

The June 2009 EXCOM meeting included a presentation of solicited ideas, and proposed actions for the Executive Committee to consider. This notice advises the public that the FAA has assigned, and EXCOM has accepted, a task to recommend improvements to the ARAC process.

The Task

The FAA has tasked the ARAC working group to do the following:

1. Review the ARAC process;

2. Review working group and ARAC experiences with the process;

3. Develop recommendations for process improvements; and

4. Forward recommendations to the ARAC Executive Committee for review and approval.

Schedule: The task must be completed no later than 12 months after the first working group meeting.

ARAC Acceptance of Task

The ARAC Executive Committee has accepted the task and assigned it to the ARAC Process Improvement Working Group. The working group serves as staff to ARAC and assists in the analysis of the assigned task. ARAC must review and approve the working group's recommendations. If ARAC accepts the working group's recommendations, it will send them to the FAA.

Working Group Activity

The ARAC Process Improvement Working Group must comply with the procedures adopted by ARAC. As part of the procedures, the working group must:

1. Recommend a work plan for completion of the task, including the rationale supporting such a plan, for consideration at the next ARAC Executive Committee meeting held following publication of this notice.

2. Give a detailed conceptual presentation of the proposed recommendations, prior to proceeding with the work stated in item 3 below.

3. Draft the appropriate documents and required analyses and/or any other related materials or documents.

4. Provide a status report at each meeting of the ARAC Executive Committee.

Participation in the Working Group

The ARAC Process Improvement Working Group has been established. However, if you wish to become a member of the working group, write to the person listed under the caption FOR FURTHER INFORMATION CONTACT expressing that desire. Describe your interest in the task and state the expertise you would bring to the working group. We must receive all requests by November 18, 2009. The Executive Committee and the FAA will review the requests and advise you whether or not your request is approved.

If you are chosen for membership on the working group, you must actively participate in the working group by attending all meetings and providing written comments when requested to do so. You must devote the resources necessary to support the working group in meeting any assigned deadlines. Members will not be added or substituted without the approval of the FAA and the working group chair once the working group has begun deliberations.

ARAC meetings are open to the public. However, ARAC Process Improvement Working Group meetings are not open to the public, except to the extent individuals with an interest and expertise are selected to participate. The FAA will make no public announcement of working group meetings.

Issued in Washington, DC, on October 13, 2009.
Pamela Hamilton-Powell,
Executive Director, Aviation Rulemaking Advisory Committee.

[FR Doc. E9-25010 Filed 10-16-09; 8:45 am]

BILLING CODE 4910-13-P